DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce (the Department) has received requests to conduct administrative reviews of various antidumping and countervailing duty orders and findings with February anniversary dates. In accordance with the Department's regulations, we are initiating those administrative reviews. The Department of Commerce also received requests to revoke two antidumping duty orders in part.

EFFECTIVE DATE: March 26, 2004.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with February anniversary dates. The Department also received timely requests to revoke in part the antidumping duty orders on Stainless Steel Bar from India and Stainless Steel Flanges from India.

Initiation of Reviews

In accordance with section 19 CFR 351.221(c)(1)(i), we are initiating administrative reviews of the following antidumping and countervailing duty orders and findings. We intend to issue the final results of these reviews not later than February 28, 2005.

| Period to be Reviewed
Antidumping Duty Proceedings
France: Low Enriched Uranium, A-427-818. | 2/1/03-1/31/04
Eurodif S.A.
India: Certain Preserved Mushrooms, A-533-813. | 2/1/03-1/31/04
Argo Dutch Industries, Ltd.
Dinesh Argo Products Ltd.
Flex Foods, Ltd.
Himalaya International, Ltd.
Premier Mushroom Farms.
Saptarishi Agro Industries, Ltd.
Weikfield Agro Products, Ltd.
India: Stainless Steel Bar, A-533-810. | 2/1/03-1/31/04
Chandan Steel Ltd.
Ferro Alloys Corporation, Limited.
Isibars Limited.
Mukand, Ltd.
Venus Wire Industries Limited.
Viraj Group.
India: Forged Stainless Steel Flanges, A-533-809. | 2/1/03-1/31/04
Echjay Forgings.
Viraj Group.
Japan: Certain Cut-to-Length Carbon-Quality Steel Plate, A-588-847. | 2/1/03-1/31/04
Nippon Steel Corporation.
Nisshin Steel.
JFE Steel Corporation.
Kawasho Corporation.
Sumitomo Metals.
Kobe Steel Company, Ltd.
Chubu Steel Plate Co., Ltd.
The Japan Steel Works, Ltd.
Nakayama Steel Works, Ltd. (Nakayama Seikosho).
Tokyo Steel Manufacturing Co., Ltd.
Republic of Korea: Certain Cut-to-Length Carbon-Quality Steel Plate, A-580-836. | 2/1/03-1/31/04
Dongkuk Steel Mill Co., Ltd.
KISCO—Korea Iron & Steel Co., Ltd.
Union Steel Manufacturing Co.
Malaysia: Stainless Steel Butt-Weld Pipe Fittings, A-557-809. | 2/1/03-1/31/04
Schulz (Mfg.) Sdn. Bhd.
Republic of Korea: Stainless Steel Butt-Weld Pipe Fittings, A-580-813. | 2/1/03-1/31/04
SungKwang Bend Co., Ltd.
The People's Republic of China: Axes/Adzes*, A-570-803. | 2/1/03-1/31/04
Changlu Hardware Goods Factory.
Changshu Xingang Forgings Factory.
Changzhou Benxin Tool Co., Ltd.
Changzhou Honghui Tools Factory.
Changzhou Jielong Tools Factory.
Changzhou Jingte Hardware Tools Factory.
Changzhou Light Industrial Tools Works.
Changzhou Satellite Metal Products Co., Ltd.
Changzhou Wujin Benniu Rongqiang Force Plant.
Changzhou Xingang Forging Factory.
Changzhou Xinhua Hardware Factory.
aka Changzhou Xinhua Metal Factory.
Changzhou Yinhe Tools Factory.
Changzhou Zhongji Tools Co., Ltd.
China Hunan Jiahe General Forging Factory.
China Jiangsu Machinery and Equipment Import and Export Corporation (SUMEC).
aka CMEC Jiangsu I/E Group Co., Ltd.
China National Machinery & Equipment Imp.& Exp. Corporation (CMEC).
China National Machinery Import and Export Corporation (CMC).
CMC Export Enterprise Department.
aka CMC Rinda I/E Corp.
Dagang Hardware Roller Forging Factory.
Dalian Light Building Tools Factory.
Dandong Tools Gereral Factory.
Dawn International Trade Co., Ltd.
Easyuse Tools Industrial Co., Ltd.
Feixian Harewaretool Factory.
Feixian Hualu Tool Co., Ltd.
Ferly Pacific Trading (Ningbo) Co., Ltd.
Foundry of Tianjin No. 1 Machine Tool Works.
Fujian Machinery and Equipment Import and Export Corp. (“FMEC”).
G&M Hardware Tools Co. (Ltd.).
Guangzhou Gaoxin Weibao Hardware Tool Co., Ltd.
Handysmart Enterprises.
Hangzhou Donghua Power Transmission Import & Export Co., Ltd.
Hangzhou Great Star Tools Co., Ltd.
Hangzhou Greatstar Co., Ltd.
Hebei Huatai Import & Export Corp.
aka Hebei Huatai Import and Export Co., Ltd.
Hebei Machinery Import & Export Corp.
aka Hebei Machinery Import and Export Co., Jin Yun Corporation.
aka Hebei Machinery Import and Export Co., Jinhai Corporation.
aka Hebei Machinery Import and Export Co., Jinxin Corporation.
Hebei Province Manufactory of Export Agricultural Tools.
Hebei Wuqiao Import & Export Corporation.
Henan Jiaozuo Foreign Trade Corp.
Henan Jinan Agriculture Production Corp.
Henan Machinery Import and Export Co., Ltd.
Hua Guang Hoe Factory of Jiahe Hunan Province.
Huadu Light Industry Co., Ltd.
Huanyu Hardware Tools Factory.
Hunan Xinyu Native Produce and Animal By-Products Import & Export Ltd.
J Y International Corp.
JB International Trading Co., Ltd.
Jiahe Huaguang Steel Hoe Factory.
Jiangsu Guotai International Group HUATAI Imp & Exp Co., Ltd.
Jiangsu Hongbao Group Co., Ltd.
Jiangsu Jurong Tools Factory.
Jiangsu Sainty International Group Co., Ltd.
aka Jiangsu Sainty International Group (STIG).
aka Jiangsu Sainty Corporation Ltd.
aka STIG Machinery Import & Export Corp., Ltd.
aka STIG Jiangsu Machinery Import & Export Corp., Ltd.
aka Jiangsu Machinery Import & Export Group Corp.
aka Sainty International Group Jiangsu Machinery Import & Export Corp., Ltd. (SUMEX).
aka Jiangsu Sainty Honghai Trading Co., Ltd.
aka Jiangsu Sainty Shanghai Co., Ltd.
aka Jiangsu Sainty Changzhou Co., Ltd.
aka STIG Jiangsu Machinery Import & Export Corp Kunshan Co., Ltd.
aka Jiangsu Sainty Wuxi Co., Ltd.
aka Jiangsu Sainty Nantong Co., Ltd.
aka Jiangsu Sainty Suzhou Co., Ltd.
aka STIG Jiangsu Machinery Import & Export Corp Suzhou Co., Ltd.
aka Jiangsu Sainty Sumex Food Co., Ltd.
aka STIG Jiangsu Machinery Import & Export Corp Yangzhou Tools Co., Ltd.
aka Jiangsu Sainty Zhangjiagang Co., Ltd.
aka Jiangsu Sainty Xuzhou Co., Ltd.
Jiangsu Skyer Tools Co., Ltd.
Jiangsu Tongrun M & E Group Import & Export Co., Ltd.
Jiangxi Machinery Import & Export Corporation.
Jinhua Huadu Light Industrial Co., Ltd.
Jinhua Runua Foreign Trade Co., Ltd.
Jinhua Twin Star Tools Corporation Limited.
Junan Runda Tools Co., Ltd.
Junan Tools General Factory.
Jurong City Tool Factory.
Kunshan Xingji Tools Co., Ltd.
Laiwu Feixiang Tool Factory.
Lunan Pingshang Jinxin Metal Tools Factory.
aka Shandong Ju Nan Ping Shang Tool Works.
Laiwu Forging Factory.
Laiwu Laicheng Changzhuang Forging Factory.
Laoling Pangu Tools.
Leling Jianye Hardware Tools Co., Ltd.
Leling Pangu Tools Co., Ltd.
Leling Zhengtai Tool Co., Ltd.
Liaoning Machinery Import and Export Corp (“LMC”).
LIMAC.
Lindhu Jinrun Hardware & Tools Co., Ltd.
Linshu Goldstar Group Co., Ltd.
aka Shandong Linshu Tools General Factory.
Linshu Hardware & Machinery General Factory.
Linshu Henglida Hardware Tool Co., Ltd.
Linshu Jinrun Ironware & Tools Co., Ltd.
Linshu Qianyuan Hardware Factory.
Linshu Xinxin Machinery Co., Ltd.
Linyi City Lindong Hardware Tool Co., Ltd.
Linyi Donglai Trade Co., Ltd.
Linyi Dongyuan Hardware Tools Co., Ltd.
Linyi Feida Hardware Machinery Co., Ltd.
Linyi Guoxin Tools Co., Ltd.
Linyi Hedong Kangda Hardware Tool Factory.
Linyi Hedong Metal Machinery Plant.
Linyi Hedong Taiping Agricultural Machinery Factory.
Linyi Jinding Hardware Tools Co., Ltd.
Linyi Jinyu Tool Co., Ltd.
Linyi Liwang Hardware & Machinery Co., Ltd.
aka Liwang Hardware Machinery Factory Shandong.
Linyi Shengda Hardware Tools Co., Ltd.
Linyi Shiheli Tools Co., Ltd.
Linyi Wanda Hardware Tool Co., Ltd.
Linyi Weiye Tools Co., Ltd.
Linyi Yuanda Metal Tools Factory.
Lishu County Hafu Forging Factory.
Longcheng Tools Group.
Longway Tools Company Ltd.
Luoyang Tools Factory.
Nantong Jinzheng Tools Factory.
Ningbo Feiyuan International Trade Co., Ltd.
Ningbo Tiangong Great Star Tools Company, Ltd.
Ningbo Tiangong Tools Company, Ltd.
Ningbo Tiger Handware Manufacture Co.
Pangu Tools Co., Ltd.
Remein.
Shaanxi Machinery and Equipment Import and Export Corporation.
Shaanxi Machinery I/E Corp.
aka Sunway Engineering Supply Co.
Shandong Furun Co., Ltd.
Shandong Huanyu Hardware Tools Co., Ltd.
Shandong Huanyu Metal Tools Co., Ltd.
Shandong Huanyu Tools Co., Ltd.
Shandong Huarong General Group Corp (“Huarong”).
Shandong Jinma Industrial Group Company (“Jinma”).
Shandong Junan Jinli Tool Co.
Shandong Laoling Tools Factory.
Shandong Linyi Dongfang Hardware Factory.
Shandong Linyi Huanyu Hardware Tools.
Shandong Machinery Import & Export Corp Hangzhou Office.
Shandong Machinery Import and Export Corporation (“SMC”).
Shandong Menghu Hardware Tool Co., Ltd.
Shandong Pangu Tools Co., Ltd. (Laoling Pangu).
Shandong Rizhao Import & Export Corp.
Shandong Technical Import and Export Corporation.
Shandong Yongshun Hardware Tools Co., Ltd.
Shanghai Founder Co., Ltd.
Shanghai J.E. Tools.
Shanghai Machinery and Equipment Import and Export Corporation.
Shanghai Machinery I&E Corp. Ltd.
Shanghai Tiandao Tools Co., Ltd.
Shanghai Tongrun Import & Export Co., Ltd.
Shanghai Xinghui Tool Co., Ltd.
Shenqiu Zhaodeying Machine Works.
Shenzhen Orbit Industrial Development Co., Ltd.
Shenzhen Sino-Tech Enterprise Development Co., Ltd.
Stanley (Zhongshan) Hardware Co., Ltd.
SUMEC Hardware and Tools Co.
Sun-Rain Stationery & Gifts Co., Ltd.
Taian Foreign Trading General Corp.
Tancheng Huatong Hardware Tools Co., Ltd.
Tangshan Guye Hongda Metal Tools Factory.
Tangshan Industry Trade Co., Ltd.
Tangshen Bingren Industrial Co., Ltd.
Tanshang Guye Hardware Tool Forge Plant.
Technology Import & Export Corp.
The PRC Enterprise.
Tianjin Dagang Hardware Forge Plant.
Tianjin Jiuzhou Special Tools Co., Ltd.
Tianjin Longjin Hardware Tools Co., Inc.
Tianjin Machinery I/E Group Engineering & Agricultural Co., Ltd.
Tianjin Machinery Imp & Exp Group.
Tianjin Machinery Import and Export Corporation (“TMC”).
Tianjin Special Tools Factory.
Tianjin Tongda Group Co., Ltd.
Tonlii Tools Factory TRTOOLS.
Wuqiao Huafeng Hardware Tool Co., Ltd.
Wuqiao No. 2 Tools Factory.
Wuqiao Tiecheng Changjiang Tools Factory.
Wuqiao Tools Co., Ltd.
Wuxi Honghong Trade Co.
Wuxi Jingsheng Forging and Pressing Co., Ltd.
Wuyi Huwei Tools.
Wuxi Yongchang Hoisting Machinery Works.
Xinyi Hardware Co., Ltd.
Xuzhou Golden Tiger Tools Making Co., Ltd.
Xuzhou Jinhu Tools Making Co., Ltd.
Yansheng International Trade Co., Ltd.
Yee Hing Industry Co.
Yongkang Baixi Light Industry Machinery Factory.
Yongkang Bugao Hardware Tools Manufacturing Co., Ltd.
aka Zhejiang Yongkang Bugao Tools Co., Ltd.
aka Yongkang Bugao Hardware Tools Manufacturing Co., Ltd.
aka Zhejiang Yongkang Bugao Hardware Tools Manufacture Co., Ltd.
Yongkang Jinchui Tools Co., Ltd.
Yongkang Tianfang Trade & Industry Co., Ltd.
Yongkang Zhiying Xindong Stainless Steel Appliance Factory.
Zhangjiagang Free Trade Zone Tianrui Intl. Trade Co., Ltd.
Zhangjiagang Tianda Special Hardware Co., Ltd.
Zhejiang Shaoxing Hardware's Tools Factory.
Zhejiang Yongkang Daxing Machinery Co., Ltd.
Zhejiang Yongkang Xigong Hardware Tools Co., Ltd.
Zhejiang Yongkang Jinchui Tools Co., Ltd.
Zhejiang Yongkang Steel Magnesium Co., Ltd.
Zhejiang Yongkang Zhengfa Mechanical Manufacturing Company.
Zhenjiang All Joy Light Industrial Products & Textiles Import & Export Co., Ltd.
Zhenjiang Foreign Trade Group Corp.
Zibo Boshan Shima Forging Factory.
Zibo Boshan Sitong Railway Tools Factory.
Zibo International Economic and Technical Coop. Corp.
Zibo Steel Fork Factory.
Zibo Tianbo Railway Materials Co., Ltd.
Zibo Zichuan Xinxing Rigging Factory.
Zigong Steel Spade Factory.
The People's Republic of China: Bars/Wedges* A-570-803 | 2/1/03-1/31/04
Changlu Hardware Goods Factory.
Changshu Xingang Forgings Factory.
Changzhou Benxin Tool Co., Ltd.
Changzhou Honghui Tools Factory.
Changzhou Jielong Tools Factory.
Changzhou Jingte Hardware Tools Factory.
Changzhou Light Industrial Tools Works.
Changzhou Satellite Metal Products Co., Ltd.
Changzhou Wujin Benniu Rongqiang Force Plant.
Changzhou Xingang Forging Factory.
Changzhou Xinhua Hardware Factory.
aka Changzhou Xinhua Metal Factory.
Changzhou Yinhe Tools Factory.
Changzhou Zhongji Tools Co., Ltd.
China Hunan Jiahe General Forging Factory.
China Jiangsu Machinery and Equipment Import and Export Corporation (SUMEC).
aka CMEC Jiangsu I/E Group Co., Ltd.
China National Machinery & Equipment Imp. & Exp. Corporation (CMEC).
China National Machinery Import and Export Corporation (CMC).
CMC Export Enterprise Department.
aka CMC Rinda I/E Corp.
Dagang Hardware Roller Forging Factory.
Dalian Light Building Tools Factory.
Dandong Tools Gereral Factory.
Dawn International Trade Co., Ltd.
Easyuse Tools Industrial Co., Ltd.
Feixian Harewaretool Factory.
Feixian Hualu Tool Co., Ltd.
Ferly Pacific Trading (Ningbo) Co., Ltd.
Foundry of Tianjin No. 1 Machine Tool Works.
Fujian Machinery and Equipment Import and Export Corp. (“FMEC”).
G&M Hardware Tools Co. (Ltd.).
Guangzhou Gaoxin Weibao Hardware Tool Co., Ltd.
Handysmart Enterprises.
Hangzhou Donghua Power Transmission Import & Export Co., Ltd.
Hangzhou Great Star Tools Co., Ltd.
Hangzhou Greatstar Co., Ltd.
Hebei Huatai Import & Export Corp.
aka Hebei Huatai Import and Export Co., Ltd.
Hebei Machinery Import & Export Corp.
aka Hebei Machinery Import and Export Co. Jin Yun Corporation.
aka Hebei Machinery Import and Export Co Jinhai Corporation.
aka Hebei Machinery Import and Export Co. Jinxin Corporation.
Hebei Province Manufactory of Export Agricultural Tools.
Hebei Wuqiao Import & Export Corporation.
Henan Jiaozuo Foreign Trade Corp.
Henan Jinan Agriculture Production Corp.
Henan Machinery Import and Export Co., Ltd.
Hua Guang Hoe Factory of Jiahe Hunan Province.
Huadu Light Industry Co. Ltd.
Huanyu Hardware Tools Factory.
Hunan Xinyu Native Produce and Animal By-Products Import & Export Ltd.
J Y International Corp.
JB International Trading Co., Ltd.
Jiahe Huaguang Steel Hoe Factory.
Jiangsu Guotai International Group HUATAI Imp & Exp Co Ltd.
Jiangsu Hongbao Group Co. Ltd.
Jiangsu Jurong Tools Factory.
Jiangsu Sainty International Group Co., Ltd.
aka Jiangsu Sainty International Group (STIG).
aka Jiangsu Sainty Corporation Ltd.
aka STIG Machinery Import & Export Corp., Ltd.
aka STIG Jiangsu Machinery Import & Export Corp., Ltd.
aka Jiangsu Machinery Import & Export Group Corp.
aka Sainty International Group Jiangsu Machinery Import & Export Corp., Ltd. (SUMEX).
aka Jiangsu Sainty Honghai Trading Co., Ltd.
aka Jiangsu Sainty Shanghai Co., Ltd.
aka Jiangsu Sainty Changzhou Co., Ltd.
aka STIG Jiangsu Machinery Import & Export Corp. Kunshan Co., Ltd.
aka Jiangsu Sainty Wuxi Co., Ltd.
aka Jiangsu Sainty Nantong Co., Ltd.
aka Jiangsu Sainty Suzhou Co., Ltd.
aka STIG Jiangsu Machinery Import & Export Corp. Suzhou Co., Ltd.
aka Jiangsu Sainty Sumex Food Co., Ltd.
aka STIG Jiangsu Machinery Import & Export Corp. Yangzhou Tools Co., Ltd.
aka Jiangsu Sainty Zhangjiagang Co., Ltd.
aka Jiangsu Sainty Xuzhou Co., Ltd.
Jiangsu Skyer Tools Co., Ltd.
Jiangsu Tongrun M & E Group Import & Export Co., Ltd.
Jiangxi Machinery Import & Export Corporation.
Jinhua Huadu Light Industrial Co., Ltd.
Jinhua Runua Foreign Trade Co. Ltd.
Jinhua Twin Star Tools Corporation Limited.
Junan Runda Tools Co., Ltd.
Junan Tools General Factory.
Jurong City Tool Factory.
Kunshan Xingji Tools Co., Ltd.
Laiwu Feixiang Tool Factory.
Lunan Pingshang Jinxin Metal Tools Factory.
aka Shandong Ju Nan Ping Shang Tool Works.
Laiwu Forging Factory.
Laiwu Laicheng Changzhuang Forging Factory.
Laoling Pangu Tools.
Leling Jianye Hardware Tools Co., Ltd.
Leling Pangu Tools Co., Ltd.
Leling Zhengtai Tool Co., Ltd.
Liaoning Machinery Import and Export Corp. (“LMC”) LIMAC.
Lindhu Jinrun Hardware & Tools Co., Ltd.
Linshu Goldstar Group Co., Ltd.
aka Shandong Linshu Tools General Factory.
Linshu Hardware & Machinery General Factory.
Linshu Henglida Hardware Tool Co., Ltd.
Linshu Jinrun Ironware & Tools Co., Ltd.
Linshu Qianyuan Hardware Factory.
Linshu Xinxin Machinery Co., Ltd.
Linyi City Lindong Hardware Tool Co., Ltd.
Linyi Donglai Trade Co., Ltd.
Linyi Dongyuan Hardware Tools Co., Ltd.
Linyi Feida Hardware Machinery Co., Ltd.
Linyi Guoxin Tools Co., Ltd.
Linyi Hedong Kangda Hardware Tool Factory.
Linyi Hedong Metal Machinery Plant.
Linyi Hedong Taiping Agricultural Machinery Factory.
Linyi Jinding Hardware Tools Co., Ltd.
Linyi Jinyu Tool Co., Ltd.
Linyi Liwang Hardware & Machinery Co., Ltd.
aka Liwang Hardware Machinery Factory Shandong.
Linyi Shengda Hardware Tools Co., Ltd.
Linyi Shiheli Tools Co., Ltd.
Linyi Wanda Hardware Tool Co., Ltd.
Linyi Weiye Tools Co., Ltd.
Linyi Yuanda Metal Tools Factory.
Lishu County Hafu Forging Factory.
Longcheng Tools Group.
Longway Tools Company Ltd.
Luoyang Tools Factory.
Nantong Jinzheng Tools Factory.
Ningbo Feiyuan International Trade Co., Ltd.
Ningbo Tiangong Great Star Tools Company, Ltd.
Ningbo Tiangong Tools Company, Ltd.
Ningbo Tiger Handware Manufacture Co.
Pangu Tools Co., Ltd.
Remein.
Shaanxi Machinery and Equipment Import and Export Corporation.
Shaanxi Machinery I/E Corp.
aka Sunway Engineering Supply Co.
Shandong Furun Co., Ltd.
Shandong Huanyu Hardware Tools Co., Ltd.
Shandong Huanyu Metal Tools Co., Ltd.
Shandong Huanyu Tools Co., Ltd.
Shandong Huarong General Group Corp. (“Huarong”).
Shandong Jinma Industrial Group Company (“Jinma”).
Shandong Junan Jinli Tool Co.
Shandong Laoling Tools Factory.
Shandong Linyi Dongfang Hardware Factory.
Shandong Linyi Huanyu Hardware Tools.
Shandong Machinery Import & Export Corp Hangzhou Office.
Shandong Machinery Import and Export Corporation (“SMC”).
Shandong Menghu Hardware Tool Co., Ltd.
Shandong Pangu Tools Co. Ltd. (Laoling Pangu).
Shandong Rizhao Import & Export Corp.
Shandong Technical Import and Export Corporation.
Shandong Yongshun Hardware Tools Co., Ltd.
Shanghai Founder Co., Ltd.
Shanghai J.E. Tools.
Shanghai Machinery and Equipment Import and Export Corporation.
Shanghai Machinery I&E Corp. Ltd.
Shanghai Tiandao Tools Co., Ltd.
Shanghai Tongrun Import & Export Co., Ltd.
Shanghai Xinghui Tool Co., Ltd.
Shenqiu Zhaodeying Machine Works.
Shenzhen Orbit Industrial Development Co., Ltd.
Shenzhen Sino-Tech Enterprise Development Co., Ltd.
Stanley(Zhongshan) Hardware Co., Ltd.
SUMEC Hardware and Tools Co.
Sun-Rain Stationery & Gifts Co., Ltd.
Taian Foreign Trading General Corp.
Tancheng Huatong Hardware Tools Co., Ltd.
Tangshan Guye Hongda Metal Tools Factory.
Tangshan Industry Trade Co., Ltd.
Tangshen Bingren Industrial Co., Ltd.
Tanshang Guye Hardware Tool Forge Plant.
Technology Import & Export Corp.
The PRC Enterprise.
Tianjin Dagang Hardware Forge Plant.
Tianjin Jiuzhou Special Tools Co., Ltd.
Tianjin Longjin Hardware Tools Co., Inc.
Tianjin Machinery I/E Group Engineering & Agricultural Co., Ltd.
Tianjin Machinery Imp & Exp Group.
Tianjin Machinery Import and Export Corporation (“TMC”).
Tianjin Special Tools Factory.
Tianjin Tongda Group Co., Ltd.
Tonlii Tools Factory TRTOOLS.
Wuqiao Huafeng Hardware Tool Co., Ltd.
Wuqiao No. 2 Tools Factory.
Wuqiao Tiecheng Changjiang Tools Factory.
Wuqiao Tools Co., Ltd.
Wuxi Honghong Trade Co.
Wuxi Jingsheng Forging and Pressing Co., Ltd.
Wuyi Huwei Tools.
Wuxi Yongchang Hoisting Machinery Works.
Xinyi Hardware Co., Ltd.
Xuzhou Golden Tiger Tools Making Co., Ltd.
Xuzhou Jinhu Tools Making Co., Ltd.
Yansheng International Trade Co., Ltd.
Yee Hing Industry Co.
Yongkang Baixi Light Industry Machinery Factory.
Yongkang Bugao Hardware Tools Manufacturing Co., Ltd.
aka Zhejiang Yongkang Bugao Tools Co., Ltd.
aka Yongkang Bugao Hardware Tools Manufacturing Co.,Ltd.
aka Zhejiang Yongkang Bugao Hardware Tools Manufacture Co., Ltd.
Yongkang Jinchui Tools Co., Ltd.
Yongkang Tianfang Trade & Industry Co., Ltd.
Yongkang Zhiying Xindong Stainless Steel Appliance Factory.
Zhangjiagang Free Trade Zone Tianrui Intl. Trade Co., Ltd.
Zhangjiagang Tianda Special Hardware Co., Ltd.
Zhejiang Shaoxing Hardware's Tools Factory.
Zhejiang Yongkang Daxing Machinery Co., Ltd.
Zhejiang Yongkang Xigong Hardware Tools Co., Ltd.
Zhejiang Yongkang Jinchui Tools Co., Ltd.
Zhejiang Yongkang Steel Magnesium Co., Ltd.
Zhejiang Yongkang Zhengfa Mechanical Manufacturing Company.
Zhenjiang All Joy Light Industrial Products & Textiles Import & Export Co., Ltd.
Zhenjiang Foreign Trade Group Corp.
Zibo Boshan Shima Forging Factory.
Zibo Boshan Sitong Railway Tools Factory.
Zibo International Economic and Technical Coop. Corp.
Zibo Steel Fork Factory.
Zibo Tianbo Railway Materials Co., Ltd.
Zibo Zichuan Xinxing Rigging Factory.
Zigong Steel Spade Factory.
THE PEOPLE'S REPUBLIC OF CHINA: Hammers/Sledges* A-570-803 | 2/1/03-1/31/04
Changlu Hardware Goods Factory.
Changshu Xingang Forgings Factory.
Changzhou Benxin Tool Co., Ltd.
Changzhou Honghui Tools Factory.
Changzhou Jielong Tools Factory.
Changzhou Jingte Hardware Tools Factory.
Changzhou Light Industrial Tools Works.
Changzhou Satellite Metal Products Co., Ltd.
Changzhou Wujin Benniu Rongqiang Force Plant.
Changzhou Xingang Forging Factory.
Changzhou Xinhua Hardware Factory.
aka Changzhou Xinhua Metal Factory.
Changzhou Yinhe Tools Factory.
Changzhou Zhongji Tools Co., Ltd.
China Hunan Jiahe General Forging Factory.
China Jiangsu Machinery and Equipment Import and Export Corporation (SUMEC).
aka CMEC Jiangsu I/E Group Co., Ltd.
China National Machinery & Equipment Imp. & Exp. Corporation (CMEC).
China National Machinery Import and Export Corporation (CMC).
CMC Export Enterprise Department.
aka CMC Rinda I/E Corp.
Dagang Hardware Roller Forging Factory.
Dalian Light Building Tools Factory.
Dandong Tools Gereral Factory.
Dawn International Trade Co., Ltd.
Easyuse Tools Industrial Co., Ltd.
Feixian Harewaretool Factory.
Feixian Hualu Tool Co., Ltd.
Ferly Pacific Trading (Ningbo) Co., Ltd.
Foundry of Tianjin No. 1 Machine Tool Works.
Fujian Machinery and Equipment Import and Export Corp. (“FMEC”).
G&M Hardware Tools Co. (Ltd.).
Guangzhou Gaoxin Weibao Hardware Tool Co., Ltd.
Handysmart Enterprises.
Hangzhou Donghua Power Transmission Import & Export Co., Ltd.
Hangzhou Great Star Tools Co., Ltd.
Hangzhou Greatstar Co., Ltd.
Hebei Huatai Import & Export Corp.
aka Hebei Huatai Import and Export Co., Ltd.
Hebei Machinery Import & Export Corp.
aka Hebei Machinery Import and Export Co. Jin Yun Corporation.
aka Hebei Machinery Import and Export Co. Jinhai Corporation.
aka Hebei Machinery Import and Export Co. Jinxin Corporation.
Hebei Province Manufactory of Export Agricultural Tools.
Hebei Wuqiao Import & Export Corporation.
Henan Jiaozuo Foreign Trade Corp.
Henan Jinan Agriculture Production Corp.
Henan Machinery Import and Export Co., Ltd.
Hua Guang Hoe Factory of Jiahe Hunan Province.
Huadu Light Industry Co. Ltd.
Huanyu Hardware Tools Factory.
Hunan Xinyu Native Produce and Animal By-Products Import & Export Ltd.
J Y International Corp.
JB International Trading Co., Ltd.
Jiahe Huaguang Steel Hoe Factory.
Jiangsu Guotai International Group HUATAI Imp & Exp Co Ltd.
Jiangsu Hongbao Group Co. Ltd.
Jiangsu Jurong Tools Factory.
Jiangsu Sainty International Group Co., Ltd.
aka Jiangsu Sainty International Group (STIG)
aka Jiangsu Sainty Corporation Ltd.
aka STIG Machinery Import & Export Corp., Ltd.
aka STIG Jiangsu Machinery Import & Export Corp., Ltd.
aka Jiangsu Machinery Import & Export Group Corp.
aka Sainty International Group Jiangsu Machinery Import & Export Corp., Ltd. (SUMEX).
aka Jiangsu Sainty Honghai Trading Co., Ltd.
aka Jiangsu Sainty Shanghai Co., Ltd.
aka Jiangsu Sainty Changzhou Co., Ltd.
aka STIG Jiangsu Machinery Import & Export Corp. Kunshan Co., Ltd.
aka Jiangsu Sainty Wuxi Co., Ltd.
aka Jiangsu Sainty Nantong Co., Ltd.
aka Jiangsu Sainty Suzhou Co., Ltd.
aka STIG Jiangsu Machinery Import & Export Corp. Suzhou Co., Ltd.
aka Jiangsu Sainty Sumex Food Co., Ltd.
aka STIG Jiangsu Machinery Import & Export Corp. Yangzhou Tools Co., Ltd.
aka Jiangsu Sainty Zhangjiagang Co., Ltd.
aka Jiangsu Sainty Xuzhou Co., Ltd.
Jiangsu Skyer Tools Co., Ltd.
Jiangsu Tongrun M & E Group Import & Export Co., Ltd.
Jiangxi Machinery Import & Export Corporation.
Jinhua Huadu Light Industrial Co., Ltd.
Jinhua Runua Foreign Trade Co. Ltd.
Jinhua Twin Star Tools Corporation Limited.
Junan Runda Tools Co., Ltd.
Junan Tools General Factory.
Jurong City Tool Factory.
Kunshan Xingji Tools Co., Ltd.
Laiwu Feixiang Tool Factory.
Lunan Pingshang Jinxin Metal Tools Factory.
aka Shandong Ju Nan Ping Shang Tool Works.
Laiwu Forging Factory.
Laiwu Laicheng Changzhuang Forging Factory.
Laoling Pangu Tools.
Leling Jianye Hardware Tools Co., Ltd.
Leling Pangu Tools Co., Ltd.
Leling Zhengtai Tool Co., Ltd.
Liaoning Machinery Import and Export Corp. (“LMC”).
LIMAC.
Lindhu Jinrun Hardware & Tools Co., Ltd.
Linshu Goldstar Group Co., Ltd.
aka Shandong Linshu Tools General Factory.
Linshu Hardware & Machinery General Factory.
Linshu Henglida Hardware Tool Co., Ltd.
Linshu Jinrun Ironware & Tools Co., Ltd.
Linshu Qianyuan Hardware Factory.
Linshu Xinxin Machinery Co., Ltd.
Linyi City Lindong Hardware Tool Co., Ltd.
Linyi Donglai Trade Co., Ltd.
Linyi Dongyuan Hardware Tools Co., Ltd.
Linyi Feida Hardware Machinery Co., Ltd.
Linyi Guoxin Tools Co., Ltd.
Linyi Hedong Kangda Hardware Tool Factory.
Linyi Hedong Metal Machinery Plant.
Linyi Hedong Taiping Agricultural Machinery Factory.
Linyi Jinding Hardware Tools Co., Ltd.
Linyi Jinyu Tool Co., Ltd.
Linyi Liwang Hardware & Machinery Co., Ltd.
aka Liwang Hardware Machinery Factory Shandong.
Linyi Shengda Hardware Tools Co., Ltd.
Linyi Shiheli Tools Co., Ltd.
Linyi Wanda Hardware Tool Co., Ltd.
Linyi Weiye Tools Co., Ltd.
Linyi Yuanda Metal Tools Factory.
Lishu County Hafu Forging Factory.
Longcheng Tools Group.
Longway Tools Company Ltd.
Luoyang Tools Factory.
Nantong Jinzheng Tools Factory.
Ningbo Feiyuan International Trade Co., Ltd.
Ningbo Tiangong Great Star Tools Company, Ltd.
Ningbo Tiangong Tools Company, Ltd.
Ningbo Tiger Handware Manufacture Co.
Pangu Tools Co., Ltd.
Remein.
Shaanxi Machinery and Equipment Import and Export Corporation.
Shaanxi Machinery I/E Corp.
aka Sunway Engineering Supply Co.
Shandong Furun Co., Ltd.
Shandong Huanyu Hardware Tools Co., Ltd.
Shandong Huanyu Metal Tools Co., Ltd.
Shandong Huanyu Tools Co., Ltd.
Shandong Huarong General Group Corp. (“Huarong”).
Shandong Jinma Industrial Group Company (“Jinma”).
Shandong Junan Jinli Tool Co.
Shandong Laoling Tools Factory.
Shandong Linyi Dongfang Hardware Factory.
Shandong Linyi Huanyu Hardware Tools.
Shandong Machinery Import & Export Corp Hangzhou Office.
Shandong Machinery Import and Export Corporation (“SMC”).
Shandong Menghu Hardware Tool Co., Ltd.
Shandong Pangu Tools Co. Ltd. (Laoling Pangu).
Shandong Rizhao Import & Export Corp.
Shandong Technical Import and Export Corporation.
Shandong Yongshun Hardware Tools Co., Ltd.
Shanghai Founder Co., Ltd.
Shanghai J.E. Tools.
Shanghai Machinery and Equipment Import and Export Corporation.
Shanghai Machinery I&E Corp. Ltd.
Shanghai Tiandao Tools Co., Ltd.
Shanghai Tongrun Import & Export Co., Ltd.
Shanghai Xinghui Tool Co., Ltd.
Shenqiu Zhaodeying Machine Works.
Shenzhen Orbit Industrial Development Co., Ltd.
Shenzhen Sino-Tech Enterprise Development Co., Ltd.
Stanley(Zhongshan) Hardware Co., Ltd.
SUMEC Hardware and Tools Co.
Sun-Rain Stationery & Gifts Co., Ltd.
Taian Foreign Trading General Corp.
Tancheng Huatong Hardware Tools Co., Ltd.
Tangshan Guye Hongda Metal Tools Factory.
Tangshan Industry Trade Co., Ltd.
Tangshen Bingren Industrial Co., Ltd.
Tanshang Guye Hardware Tool Forge Plant.
Technology Import & Export Corp.
The PRC Enterprise.
Tianjin Dagang Hardware Forge Plant.
Tianjin Jiuzhou Special Tools Co., Ltd.
Tianjin Longjin Hardware Tools Co., Inc.
Tianjin Machinery I/E Group Engineering & Agricultural Co., Ltd.
Tianjin Machinery Imp & Exp Group.
Tianjin Machinery Import and Export Corporation (“TMC”).
Tianjin Special Tools Factory.
Tianjin Tongda Group Co., Ltd.
Tonlii Tools Factory.
TRTOOLS.
Wuqiao Huafeng Hardware Tool Co., Ltd.
Wuqiao No. 2 Tools Factory.
Wuqiao Tiecheng Changjiang Tools Factory.
Wuqiao Tools Co., Ltd.
Wuxi Honghong Trade Co.
Wuxi Jingsheng Forging and Pressing Co., Ltd.
Wuyi Huwei Tools.
Wuxi Yongchang Hoisting Machinery Works.
Xinyi Hardware Co., Ltd.
Xuzhou Golden Tiger Tools Making Co., Ltd.
Xuzhou Jinhu Tools Making Co., Ltd.
Yansheng International Trade Co., Ltd.
Yee Hing Industry Co.
Yongkang Baixi Light Industry Machinery Factory.
Yongkang Bugao Hardware Tools Manufacturing Co., Ltd.
aka Zhejiang Yongkang Bugao Tools Co., Ltd.
aka Yongkang Bugao Hardware Tools Manufacturing Co.,Ltd.
aka Zhejiang Yongkang Bugao Hardware Tools Manufacture Co., Ltd.
Yongkang Jinchui Tools Co., Ltd.
Yongkang Tianfang Trade & Industry Co., Ltd.
Yongkang Zhiying Xindong Stainless Steel Appliance Factory.
Zhangjiagang Free Trade Zone Tianrui Intl. Trade Co., Ltd.
Zhangjiagang Tianda Special Hardware Co., Ltd.
Zhejiang Shaoxing Hardware's Tools Factory.
Zhejiang Yongkang Daxing Machinery Co., Ltd.
Zhejiang Yongkang Xigong Hardware Tools Co., Ltd.
Zhejiang Yongkang Jinchui Tools Co., Ltd.
Zhejiang Yongkang Steel Magnesium Co., Ltd.
Zhejiang Yongkang Zhengfa Mechanical Manufacturing Company.
Zhenjiang All Joy Light Industrial Products & Textiles Import & Export Co., Ltd.
Zhenjiang Foreign Trade Group Corp.
Zibo Boshan Shima Forging Factory.
Zibo Boshan Sitong Railway Tools Factory.
Zibo International Economic and Technical Coop. Corp.
Zibo Steel Fork Factory.
Zibo Tianbo Railway Materials Co., Ltd.
Zibo Zichuan Xinxing Rigging Factory.
Zigong Steel Spade Factory.
THE PEOPLE'S REPUBLIC OF CHINA: Picks/Mattocks*.
A-570-803 2/1/03-1/31/04.
Changlu Hardware Goods Factory.
Changshu Xingang Forgings Factory.
Changzhou Benxin Tool Co., Ltd.
Changzhou Honghui Tools Factory.
Changzhou Jielong Tools Factory.
Changzhou Jingte Hardware Tools Factory.
Changzhou Light Industrial Tools Works.
Changzhou Satellite Metal Products Co., Ltd.
Changzhou Wujin Benniu Rongqiang Force Plant.
Changzhou Xingang Forging Factory.
Changzhou Xinhua Hardware Factory.
aka Changzhou Xinhua Metal Factory.
Changzhou Yinhe Tools Factory.
Changzhou Zhongji Tools Co., Ltd.
China Hunan Jiahe General Forging Factory.
China Jiangsu Machinery and Equipment Import and Export Corporation (SUMEC).
aka CMEC Jiangsu I/E Group Co., Ltd.
China National Machinery & Equipment Imp. & Exp. Corporation (CMEC).
China National Machinery Import and Export Corporation (CMC).
CMC Export Enterprise Department
aka CMC Rinda I/E Corp.
Dagang Hardware Roller Forging Factory.
Dalian Light Building Tools Factory.
Dandong Tools Gereral Factory.
Dawn International Trade Co., Ltd.
Easyuse Tools Industrial Co., Ltd.
Feixian Harewaretool Factory.
Feixian Hualu Tool Co., Ltd.
Ferly Pacific Trading (Ningbo) Co., Ltd.
Foundry of Tianjin No. 1 Machine Tool Works.
Fujian Machinery and Equipment Import and Export Corp. (“FMEC”).
G&M Hardware Tools Co. (Ltd.).
Guangzhou Gaoxin Weibao Hardware Tool Co., Ltd.
Handysmart Enterprises.
Hangzhou Donghua Power Transmission Import & Export Co., Ltd.
Hangzhou Great Star Tools Co., Ltd.
Hangzhou Greatstar Co., Ltd.
Hebei Huatai Import & Export Corp.
aka Hebei Huatai Import and Export Co., Ltd.
Hebei Machinery Import & Export Corp.
aka Hebei Machinery Import and Export Co. Jin Yun Corporation.
aka Hebei Machinery Import and Export Co. Jinhai Corporation.
aka Hebei Machinery Import and Export Co. Jinxin Corporation.
Hebei Province Manufactory of Export Agricultural Tools.
Hebei Wuqiao Import & Export Corporation.
Henan Jiaozuo Foreign Trade Corp.
Henan Jinan Agriculture Production Corp.
Henan Machinery Import and Export Co., Ltd.
Hua Guang Hoe Factory of Jiahe Hunan Province.
Huadu Light Industry Co. Ltd.
Huanyu Hardware Tools Factory.
Hunan Xinyu Native Produce and Animal By-Products Import & Export Ltd.
J Y International Corp.
JB International Trading Co., Ltd.
Jiahe Huaguang Steel Hoe Factory.
Jiangsu Guotai International Group HUATAI Imp & Exp Co Ltd.
Jiangsu Hongbao Group Co. Ltd.
Jiangsu Jurong Tools Factory.
Jiangsu Sainty International Group Co., Ltd.
aka Jiangsu Sainty International Group (STIG).
aka Jiangsu Sainty Corporation Ltd.
aka STIG Machinery Import & Export Corp., Ltd.
aka STIG Jiangsu Machinery Import & Export Corp., Ltd.
aka Jiangsu Machinery Import & Export Group Corp.
aka Sainty International Group Jiangsu Machinery Import & Export Corp., Ltd. (SUMEX).
aka Jiangsu Sainty Honghai Trading Co., Ltd.
aka Jiangsu Sainty Shanghai Co., Ltd.
aka Jiangsu Sainty Changzhou Co., Ltd.
aka STIG Jiangsu Machinery Import & Export Corp. Kunshan Co., Ltd.
aka Jiangsu Sainty Wuxi Co., Ltd.
aka Jiangsu Sainty Nantong Co., Ltd.
aka Jiangsu Sainty Suzhou Co., Ltd.
aka STIG Jiangsu Machinery Import & Export Corp. Suzhou Co., Ltd.
aka Jiangsu Sainty Sumex Food Co., Ltd.
aka STIG Jiangsu Machinery Import & Export Corp. Yangzhou Tools Co., Ltd.
aka Jiangsu Sainty Zhangjiagang Co., Ltd.
aka Jiangsu Sainty Xuzhou Co., Ltd.
Jiangsu Skyer Tools Co., Ltd.
Jiangsu Tongrun M & E Group Import & Export Co., Ltd.
Jiangxi Machinery Import & Export Corporation.
Jinhua Huadu Light Industrial Co., Ltd.
Jinhua Runua Foreign Trade Co. Ltd.
Jinhua Twin Star Tools Corporation Limited.
Junan Runda Tools Co., Ltd.
Junan Tools General Factory.
Jurong City Tool Factory.
Kunshan Xingji Tools Co., Ltd.
Laiwu Feixiang Tool Factory.
Lunan Pingshang Jinxin Metal Tools Factory.
aka Shandong Ju Nan Ping Shang Tool Works.
Laiwu Forging Factory.
Laiwu Laicheng Changzhuang Forging Factory.
Laoling Pangu Tools.
Leling Jianye Hardware Tools Co., Ltd.
Leling Pangu Tools Co., Ltd.
Leling Zhengtai Tool Co., Ltd.
Liaoning Machinery Import and Export Corp. (“LMC”) LIMAC.
Lindhu Jinrun Hardware & Tools Co., Ltd.
Linshu Goldstar Group Co., Ltd.
aka Shandong Linshu Tools General Factory.
Linshu Hardware & Machinery General Factory.
Linshu Henglida Hardware Tool Co., Ltd.
Linshu Jinrun Ironware & Tools Co., Ltd.
Linshu Qianyuan Hardware Factory.
Linshu Xinxin Machinery Co., Ltd.
Linyi City Lindong Hardware Tool Co., Ltd.
Linyi Donglai Trade Co., Ltd.
Linyi Dongyuan Hardware Tools Co., Ltd.
Linyi Feida Hardware Machinery Co., Ltd.
Linyi Guoxin Tools Co., Ltd.
Linyi Hedong Kangda Hardware Tool Factory.
Linyi Hedong Metal Machinery Plant.
Linyi Hedong Taiping Agricultural Machinery Factory.
Linyi Jinding Hardware Tools Co., Ltd.
Linyi Jinyu Tool Co., Ltd.
Linyi Liwang Hardware & Machinery Co., Ltd.
aka Liwang Hardware Machinery Factory Shandong.
Linyi Shengda Hardware Tools Co., Ltd.
Linyi Shiheli Tools Co., Ltd.
Linyi Wanda Hardware Tool Co., Ltd.
Linyi Weiye Tools Co., Ltd.
Linyi Yuanda Metal Tools Factory.
Lishu County Hafu Forging Factory.
Longcheng Tools Group.
Longway Tools Company Ltd.
Luoyang Tools Factory.
Nantong Jinzheng Tools Factory.
Ningbo Feiyuan International Trade Co., Ltd.
Ningbo Tiangong Great Star Tools Company, Ltd.
Ningbo Tiangong Tools Company, Ltd.
Ningbo Tiger Handware Manufacture Co.
Pangu Tools Co., Ltd.
Remein.
Shaanxi Machinery and Equipment Import and Export Corporation.
Shaanxi Machinery I/E Corp.
aka Sunway Engineering Supply Co.
Shandong Furun Co., Ltd.
Shandong Huanyu Hardware Tools Co., Ltd.
Shandong Huanyu Metal Tools Co., Ltd.
Shandong Huanyu Tools Co., Ltd.
Shandong Huarong General Group Corp. (“Huarong”).
Shandong Jinma Industrial Group Company (“Jinma”).
Shandong Junan Jinli Tool Co.
Shandong Laoling Tools Factory.
Shandong Linyi Dongfang Hardware Factory.
Shandong Linyi Huanyu Hardware Tools.
Shandong Machinery Import & Export Corp Hangzhou Office.
Shandong Machinery Import and Export Corporation (“SMC”).
Shandong Menghu Hardware Tool Co., Ltd.
Shandong Pangu Tools Co. Ltd. (Laoling Pangu).
Shandong Rizhao Import & Export Corp.
Shandong Technical Import and Export Corporation.
Shandong Yongshun Hardware Tools Co., Ltd.
Shanghai Founder Co., Ltd.
Shanghai J.E. Tools.
Shanghai Machinery and Equipment Import and Export Corporation.
Shanghai Machinery I&E Corp. Ltd.
Shanghai Tiandao Tools Co., Ltd.
Shanghai Tongrun Import & Export Co., Ltd.
Shanghai Xinghui Tool Co., Ltd.
Shenqiu Zhaodeying Machine Works.
Shenzhen Orbit Industrial Development Co., Ltd.
Shenzhen Sino-Tech Enterprise Development Co., Ltd.
Stanley (Zhongshan) Hardware Co., Ltd.
SUMEC Hardware and Tools Co.
Sun-Rain Stationery & Gifts Co., Ltd.
Taian Foreign Trading General Corp.
Tancheng Huatong Hardware Tools Co., Ltd.
Tangshan Guye Hongda Metal Tools Factory.
Tangshan Industry Trade Co., Ltd.
Tangshen Bingren Industrial Co., Ltd.
Tanshang Guye Hardware Tool Forge Plant.
Technology Import & Export Corp.
The PRC Enterprise.
Tianjin Dagang Hardware Forge Plant.
Tianjin Jiuzhou Special Tools Co., Ltd.
Tianjin Longjin Hardware Tools Co., Inc.
Tianjin Machinery I/E Group Engineering & Agricultural Co., Ltd.
Tianjin Machinery Imp & Exp Group.
Tianjin Machinery Import and Export Corporation (“TMC”).
Tianjin Special Tools Factory.
Tianjin Tongda Group Co., Ltd.
Tonlii Tools Factory TRTOOLS.
Wuqiao Huafeng Hardware Tool Co., Ltd.
Wuqiao No. 2 Tools Factory.
Wuqiao Tiecheng Changjiang Tools Factory.
Wuqiao Tools Co., Ltd.
Wuxi Honghong Trade Co.
Wuxi Jingsheng Forging and Pressing Co., Ltd.
Wuyi Huwei Tools.
Wuxi Yongchang Hoisting Machinery Works.
Xinyi Hardware Co., Ltd.
Xuzhou Golden Tiger Tools Making Co., Ltd.
Xuzhou Jinhu Tools Making Co., Ltd.
Yansheng International Trade Co., Ltd.
Yee Hing Industry Co.
Yongkang Baixi Light Industry Machinery Factory.
Yongkang Bugao Hardware Tools Manufacturing Co., Ltd.
aka Zhejiang Yongkang Bugao Tools Co., Ltd.
aka Yongkang Bugao Hardware Tools Manufacturing Co., Ltd.
aka Zhejiang Yongkang Bugao Hardware Tools Manufacture Co., Ltd.
Yongkang Jinchui Tools Co., Ltd.
Yongkang Tianfang Trade & Industry Co., Ltd.
Yongkang Zhiying Xindong Stainless Steel Appliance Factory.
Zhangjiagang Free Trade Zone Tianrui Intl. Trade Co., Ltd.
Zhangjiagang Tianda Special Hardware Co., Ltd.
Zhejiang Shaoxing Hardware's Tools Factory.
Zhejiang Yongkang Daxing Machinery Co., Ltd.
Zhejiang Yongkang Xigong Hardware Tools Co., Ltd.
Zhejiang Yongkang Jinchui Tools Co., Ltd.
Zhejiang Yongkang Steel Magnesium Co., Ltd.
Zhejiang Yongkang Zhengfa Mechanical Manufacturing Company.
Zhenjiang All Joy Light Industrial Products & Textiles Import & Export Co., Ltd.
Zhenjiang Foreign Trade Group Corp.
Zibo Boshan Shima Forging Factory.
Zibo Boshan Sitong Railway Tools Factory.
Zibo International Economic and Technical Coop. Corp.
Zibo Steel Fork Factory.
Zibo Tianbo Railway Materials Co., Ltd.
Zibo Zichuan Xinxing Rigging Factory.
Zigong Steel Spade Factory.
The People's Republic of China: Certain Preserved Mushrooms ¹, A-570-851 | 2/1/03-2/31/04
China National Cereals, Oils & Foodstuffs.
Import & Export Corporation.
China Processed Food Import & Export Co.
COFCO (Zhangzhou) Food Industrial Co., Ltd.
Dingyuan Import & Export Corporation.
Fujian Yu Xing Fruits and Vegetables Foodstuffs Co., Ltd.
Fujian Zishan Group Co.
Gerber Food (Yunnan) Co., Ltd.
Green Fresh Foods (Zhangzhou) Co., Ltd.
Guangxi Hengxian Pro-Light Foods, Inc.
Guangxi Yizhou Dongfang Cannery.
Guangxi Yulin Oriental Food Co., Ltd.
Inter-Foods D.S. Co., Ltd.
Mei Wei Food Industry Co., Ltd.
Nanning Runchao Industrial Trade Co., Ltd.
Primera Harvest (Xiangfan) Co., Ltd.
Raoping Xingyu Foods Co., Ltd.
Raoping Yucun Canned Foods Factory.
Shangdong Jiufa Edible Fungus Corporation, Ltd.
Shanghai Superlucky Import & Export Company, Ltd.
Shantou Hongda Industrial General Corporation.
Shenxian Dongxing Foods Co., Ltd.
Shenzhen Qunxingyuan Trading Co., Ltd.
Tak Fat Trading Co.
Xiamen International Trade & Industrial Co., Ltd.
Xiamen Jiahua Import & Export Trading Co., Ltd.
Xiamen Zhongjia Imp. & Exp. Co., Ltd.
Zhangzhou Hongning Canned Food Factory.
Zhangzhou Jingxiang Foods Co., Ltd.
Zhangzhou Longhai Lubao Food Co., Ltd.
Zhangzhou Longhai Minhui Industry and Trade Co., Ltd.
Countervailing Duty Proceedings
France: Low Enriched Uranium, C-427-819 | 1/1/03-12/31/03
Eurodif S.A.
Germany: Low Enriched Uranium, C-428-829 | 1/1/03-12/31/03
Urenco Deutschland GmbH.
Republic of Korea: Certain Cut-to-Length Carbon-Quality Steel Plate, C-580-837 | 1/1/03-12/31/03
Dongkuk Steel Mill Co., Ltd.
KISCO—Korea Iron & Steel Co., Ltd.
Union Steel Manufacturing Co.
The Netherlands: Low Enriched Uranium, C-421-809 | 1/1/03-12/31/03
Urenco Nederland BV.
United Kingdom: Low Enriched Uranium, C-412-821 | 1/1/03-12/31/03
Urenco (Capenhurst) Ltd.
Suspension Agreements
None.
*If one of the above named companies does not qualify for a separate rate, all other exporters of certain heavy forged hand tools from the People's Republic of China who have not qualified for a separate rate are deemed to be covered by this review as part of the single PRC entity of which the named exporters are a part.
¹ If one of the above-named companies does not qualify for a separate rate, all other exporters of certain preserved mushrooms from the People's Republic of China who have not qualified for a separate rate are deemed to be covered by this review as part of the single PRC entity of which the named exporters are a part.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: March 23, 2004.
Holly A. Kuga,
Acting Deputy Assistant Secretary, Group II for Import Administration.

[FR Doc. 04-6831 Filed 3-25-04; 8:45 am]

BILLING CODE 3510-DS-P